DEPARTMENT OF COMMERCE

National Oceanic and Atmospheric Administration

[RTID 0648-XE244]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council will hold a workshop to create a focused discussion on how aspects of alternative 5 from the Atlantic Surfclam and Ocean Quahog Species Separation Requirements Amendment would be implemented by the Council and NOAA Fisheries.

DATES: The meeting will be held from 1 p.m. Wednesday, October 2, 2024 through 3 p.m. Thursday, October 3, 2024. For agenda details, see SUPPLEMENTARY INFORMATION.

ADDRESSES: The meeting will be held at the Philadelphia Marriott Downtown, 1201 Market Street, Philadelphia, PA 19107; telephone: (215) 625-6763. The meeting will be partially streamed by webinar for portions of the agenda that are held in plenary. Connection information will be posted to the calendar prior to the meeting at www.mafmc.org.

Council address: Mid-Atlantic Fishery Management Council, 800 N. State Street, Suite 201, Dover, DE 19901; telephone: (302) 674-2331 or on their website at www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council will hold a workshop from 1 p.m. Wednesday, October 2 through 3 p.m. Thursday, October 3, 2024, to create a focused discussion on how aspects of alternative 5 from the Atlantic Surfclam and Ocean Quahog Species Separation Requirements Amendment would be implemented by the Council and NOAA Fisheries. Alternative 5 is one of 6 alternatives in the Amendment under consideration by the Council to address the issues of mixed catches occurring in the Atlantic surfclam and ocean quahog individual transferable quota fisheries. Meeting materials will be posted to www.mafmc.org.

Special Accommodations

The meeting is physically accessible to people with disabilities. Requests for sign language interpretation or other auxiliary aids should be directed to Shelley Spedden at the Council Office, (302) 526-5251, at least 5 days prior to the meeting date.

Authority: 16 U.S.C. 1801 et seq.

Dated: September 9, 2024.
Rey Israel Marquez,
Acting Deputy Director, Office of Sustainable Fisheries, National Marine Fisheries Service.

[FR Doc. 2024-20706 Filed 9-11-24; 8:45 am]

BILLING CODE 3510-22-P